DEPARTMENT OF COMMERCE

National Oceanic and Atmospheric Administration (NOAA)

Ocean Exploration Advisory Board (OEAB); Ocean Exploration Advisory Board; Meeting

AGENCY: Office of Ocean Exploration and Research (OER), National Oceanic and Atmospheric Administration (NOAA), Department of Commerce (DOC).

ACTION: Notice of public meeting.

SUMMARY: This notice sets forth the schedule and proposed agenda for a meeting of the Ocean Exploration Advisory Board (OEAB). OEAB members will discuss and provide advice on Federal ocean exploration programs, with a particular emphasis on the topics identified in the section on Matters to Be Considered.

DATES: The announced meeting is scheduled for Thursday, October 1, 2020, from 1:00 p.m. to 5:00 p.m. EDT and Friday, October 2, 2020, from 1:00 p.m. to 5:00 p.m. EDT.

ADDRESSES: This will be a virtual meeting. Information about how to participate will be posted to the OEAB website at http://oeab.noaa.gov.

FOR FURTHER INFORMATION CONTACT: Mr. David McKinnie, Designated Federal Officer, Ocean Exploration Advisory Board, National Oceanic and Atmospheric Administration, 7600 Sand Point Way NE, Seattle, WA 98115, (206) 526-6950.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs, and other matters as the NOAA Administrator requests.

OEAB members represent government agencies, the private sector, academic institutions, and not-for-profit institutions involved in all facets of ocean exploration—from advanced technology to citizen exploration.

In addition to advising NOAA leadership, NOAA expects the OEAB to help to define and develop a national program of ocean exploration—a network of stakeholders and partnerships advancing national priorities for ocean exploration.

Matters to be Considered: The OEAB will discuss the following topics: (1) NOAA Office of Ocean Exploration and Research program review and other updates; (2) the National Strategy for Mapping, Exploring, and Characterizing the United States Exclusive Economic Zone; (3) ocean exploration partnerships; (4) national ocean exploration priorities in the Pacific; and (5) other matters as described in the agenda. The agenda and other meeting materials will be made available on the OEAB website at http://oeab.noaa.gov.

Status: The meeting will be open to the public with a 15-minute public comment period on Friday, October 2, 2020, from 3:00 p.m. to 3:15 p.m. EDT (please check the final agenda on the OEAB website to confirm the time). The public may listen to the meeting and provide comments during the public comment period via teleconference. Participation information will be on the meeting agenda on the OEAB website.

The OEAB expects that public statements at its meetings will not be repetitive of previously submitted verbal or written statements. In general, each individual or group making a verbal presentation will be limited to three minutes. The Designated Federal Officer must receive written comments by September 28, 2020, to provide sufficient time for OEAB review. Written comments received after September 28, 2020, will be distributed to the OEAB but may not be reviewed prior to the meeting date.

Special Accomodations: Requests for sign language interpretation or other auxiliary aids should be directed to the Designated Federal Officer by September 28, 2020.

Dated: September 8, 2020.
David Holst,
Director Chief Financial Officer/CAO, Office of Oceanic and Atmospheric Research, National Oceanic and Atmospheric Administration.

[FR Doc. 2020-20117 Filed 9-11-20; 8:45 am]

BILLING CODE 3510-KA-P